DEPARTMENT OF ENERGY

Federal Energy Regulatory Commission

Combined Notice of Filings #1

Take notice that the Commission received the following exempt wholesale generator filings:

Docket Numbers: EG19-48-000.

Applicants: Terra-Gen CA Windpower Development, LLC.

Description: Notice of Self-Certification of Exempt Wholesale Generator Status of Terra-Gen CA Windpower Development, LLC.

Filed Date: 1/11/19.

Accession Number: 20190111-5026.

Comments Due: 5 p.m. ET 2/1/19.

Take notice that the Commission received the following electric rate filings:

Docket Numbers: ER11-2774-002.

Applicants: Virginia Electric and Power Company, Dominion Energy Generation Marketing, Inc., Dominion Energy Nuclear Connecticut, Inc., Dominion Bridgeport Fuel Cell, LLC.

Description: Notice of Non-Material Changes in Fuel Procurement Operations of Dominion Resources Services, Inc., on behalf of Virginia Electric and Power Company, et al.

Filed Date: 1/10/19.

Accession Number: 20190110-5155.

Comments Due: 5 p.m. ET 1/31/19.

Docket Numbers: ER18-2449-001.

Applicants: Midcontinent Independent System Operator, Inc., ALLETE, Inc.

Description: ALLETE, Inc. submits supplement to September 18, 2018 and November 15, 2018 tariff filings.

Filed Date: 1/10/19.

Accession Number: 20190110-5152.

Comments Due: 5 p.m. ET 1/31/19.

Docket Numbers: ER18-896-001.

Applicants: Meadow Lake Wind Farm II LLC.

Description: Report Filing: Refund Report Filing to be effective N/A.

Filed Date: 1/11/19.

Accession Number: 20190111-5017.

Comments Due: 5 p.m. ET 2/1/19.

Docket Numbers: ER18-2231-002.

Applicants: Duke Energy Carolinas, LLC.

Description: Compliance filing: DEC Revised Depreciation Rates (RS-514) Filing (Correct Metadata) to be effective 8/1/2018.

Filed Date: 1/11/19.

Accession Number: 20190111-5099.

Comments Due: 5 p.m. ET 2/1/19.

Docket Numbers: ER19-794-000.

Applicants: Southwest Power Pool, Inc.

Description: § 205(d) Rate Filing: 3517 Plum Creek Wind, LLC GIA to be effective 12/19/2018.

Filed Date: 1/11/19.

Accession Number: 20190111-5016.

Comments Due: 5 p.m. ET 2/1/19.

Docket Numbers: ER19-795-000.

Applicants: PacifiCorp.

Description: § 205(d) Rate Filing: Exelon NITSA (OR D.A.) Rev 2 to be effective 1/1/2019.

Filed Date: 1/11/19.

Accession Number: 20190111-5020.

Comments Due: 5 p.m. ET 2/1/19.

Docket Numbers: ER19-796-000.

Applicants: Duke Energy Indiana, LLC, PJM Interconnection, L.L.C.

Description: § 205(d) Rate Filing: Duke Energy submits Interconnection Agreement SA No. 5254 to be effective 12/12/2018.

Filed Date: 1/11/19.

Accession Number: 20190111-5021.

Comments Due: 5 p.m. ET 2/1/19.

Docket Numbers: ER19-797-000.

Applicants: New York State Electric & Gas Corporation, New York Independent System Operator, Inc.

Description: § 205(d) Rate Filing: 205: NYSEG-MAIT CRA No. 2444 to be effective 12/17/2018.

Filed Date: 1/11/19.

Accession Number: 20190111-5027.

Comments Due: 5 p.m. ET 2/1/19.

Docket Numbers: ER19-798-000.

Applicants: The Dayton Power and Light Company.

Description: § 205(d) Rate Filing: DP&L Buckeye ILDSA Filing to be effective 4/1/2019.

Filed Date: 1/11/19.

Accession Number: 20190111-5051.

Comments Due: 5 p.m. ET 2/1/19.

Docket Numbers: ER19-799-000.

Applicants: Southern California Edison Company.

Description: § 205(d) Rate Filing: GIA & DSA Deer Creek Solar 1 Project SA Nos. 1058 & 1059 to be effective 1/12/2019.

Filed Date: 1/11/19.

Accession Number: 20190111-5062.

Comments Due: 5 p.m. ET 2/1/19.

Docket Numbers: ER19-800-000.

Applicants: Puget Sound Energy, Inc.

Description: § 205(d) Rate Filing: Amcor NITSA, NOA, IA to be effective 1/1/2019.

Filed Date: 1/11/19.

Accession Number: 20190111-5101.

Comments Due: 5 p.m. ET 2/1/19.

Docket Numbers: ER19-801-000.

Applicants: Duke Energy Florida, LLC.

Description: Tariff Cancellation: DEF—Notice of Cancellation of Shady Hills LGIA (SA No. 235) to be effective 10/16/2018.

Filed Date: 1/11/19.

Accession Number: 20190111-5114.

Comments Due: 5 p.m. ET 2/1/19.

Docket Numbers: ER19-802-000.

Applicants: Duke Energy Indiana, LLC, Duke Energy Ohio, Inc.

Description: § 205(d) Rate Filing: Duke-AEP IA (PJM SA No. 1491) Amendment to be effective 12/12/2018.

Filed Date: 1/11/19.

Accession Number: 20190111-5115.

Comments Due: 5 p.m. ET 2/1/19.

Docket Numbers: ER19-803-000.

Applicants: Midcontinent Independent System Operator, Inc.

Description: Notice of Termination of Adjacent Balancing Authority Coordination Agreement (Rate Schedule No. 18) of Midcontinent Independent System Operator, Inc.

Filed Date: 1/11/19.

Accession Number: 20190111-5121.

Comments Due: 5 p.m. ET 2/1/19.

Docket Numbers: ER19-804-000.

Applicants: Public Service Company of New Mexico.

Description: § 205(d) Rate Filing: Modifications to NITSA/NOA Between PNM and TSGT to be effective 1/1/2019.

Filed Date: 1/11/19.

Accession Number: 20190111-5145.

Comments Due: 5 p.m. ET 2/1/19.

Docket Numbers: ER19-805-000.

Applicants: Pacific Gas and Electric Company.

Description: § 205(d) Rate Filing: SVP Work Performance Agreement for NRS Relay Replacement (SA 343) to be effective 1/14/2019.

Filed Date: 1/11/19.

Accession Number: 20190111-5153.

Comments Due: 5 p.m. ET 2/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2019.
Nathaniel J. Davis, Sr.,
Deputy Secretary.

[FR Doc. 2019-00532 Filed 1-30-19; 8:45 am]

BILLING CODE 6717-01-P